DEPARTMENT OF HEALTH AND HUMAN SERVICES

Administration for Community Living

Agency Information Collection Activities; Proposed Collection; Public Comment Request; Performance Data for the Senior Medicare Patrol (SMP) Program; OMB# 0985-0024

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This Extension without Change (ICR Ext) solicits comments on the information collection requirements related to the Performance Data for the Senior Medicare Patrol (SMP) Program.

DATES: Comments on the collection of information must be submitted electronically by 11:59 p.m. (EST) or postmarked by September 3, 2019.

ADDRESSES: Submit electronic comments on the collection of information to: Phillip McKoy, Phillip.McKoy@acl.hhs.gov. Submit written comments on the collection of information to Administration for Community Living, Washington, D.C. 20201, Attention: Phillip McKoy

FOR FURTHER INFORMATION CONTACT: Phillip McKoy, Office of Healthcare Information and Counseling (OHIC), Administration for Community Living, Washington, DC 20201, Phone: 202-795-7397, Email: Phillip.Mckoy@acl.hhs.gov.

SUPPLEMENTARY INFORMATION: Under the PRA, Federal agencies must obtain approval from the Office of Management and Budget (OMB) for each collection of information they conduct or sponsor. “Collection of information” is defined as and includes agency requests or requirements that members of the public submit reports, keep records, or provide information to a third party.

The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

The purpose of this data collection is to collect annual performance data from grantees. This data collection is required by Congress for program monitoring and Government Performance Results Act (GPRA) purposes. The data collected through this request is used by ACL and the SMP Programs to communicate with Congress and the public on SMP activities. There are 54 programs nationally, one in all 50 states, the District of Columbia, Puerto Rico, Guam and the U.S. Virgin Islands. It is imperative that data be collected to ensure that grantees' contacts are captured and that Medicare beneficiaries are given the tools to prevent, detect and report health care fraud, error and abuse. The respondents for this data collection are grantees, SMP team members, and volunteers who meet with Medicare beneficiaries in group settings and in one-on-one sessions to educate them on the importance of being aware of Medicare fraud, error and abuse, and having the knowledge to protect the Medicare system.

Under Public Law 104-208, the Omnibus Consolidated Appropriations Act of 1997, Congress established the Senior Medicare Patrol Projects in order to further curb losses to the Medicare program. The Senate Committee noted that retired professionals, with appropriate training, could serve as educators and resources to assist Medicare beneficiaries and others to detect and report error, fraud and abuse.

Among other requirements, it directed the Administration for Community Living to work with the Office of Inspector General (OIG) and the Government Accountability Office (GAO), to assess the performance of the program. The Administration for Community Living has worked with HHS/OIG to develop project-level performance measures. The HHS/OIG has collected SMP performance data and issued SMP performance reports since 1997. The OIG changed the reporting period from twice a year to once a year in 2008.

This information is used by ACL as the primary method for monitoring the SMP Projects. This information collection reports the number of active team members, number of community outreach activities, number of beneficiaries reached by education and outreach activities, and the number of dollars recoverable for the Medicare Trust Fund among other performance measures. The information from the current collection is reported by the OIG to Congress and the public.

Measures as required by Congress and the Government Performance Results Modernization Act of 2010 (GPRMA), are also supported in ACL tracking performance outcomes and efficiency measures with respect to the annual and long-term performance targets established in compliance with the GPRAMA. The Performance Data for the SMP data collection will continue to provide data necessary to determine the effectiveness of the program.

The proposed data collection tools may be found on the ACL website for review at https://www.acl.gov/about-acl/public-input.

Estimated Program Burden

ACL estimates the burden associated with this collection of information as follows: The burden hours are based on the number of projects for 54 SMP grantees. With an estimated time of 138 burden hours per response for a total of 7,452 annual burden hours.

Type of respondent | Form name | Number of respondents | Number of responses per respondent | Average burden per response (in hours) | Total burden hours
SMP grantees | SMP Project annual Report Form | 54 | 1 | 138 | 7,452

Dated: June 26, 2019.
Mary Lazare,
Principal Deputy Administrator.

[FR Doc. 2019-14086 Filed 7-1-19; 8:45 am]

BILLING CODE 4154-01-P